DEPARTMENT OF HEALTH AND HUMAN SERVICES

Centers for Disease Control and Prevention

[30Day-22-1014]

Agency Forms Undergoing Paperwork Reduction Act Review

In accordance with the Paperwork Reduction Act of 1995, the Centers for Disease Control and Prevention (CDC) has submitted the information collection request titled CDC Worksite Health ScoreCard (CDC ScoreCard) to the Office of Management and Budget (OMB) for review and approval. CDC previously published a “Proposed Data Collection Submitted for Public Comment and Recommendations” notice on September 27, 2021 to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

CDC Worksite Health ScoreCard (CDC ScoreCard) (OMB Control No. 0920-1014, Exp. 3/31/2022)—Extension—National Center for Chronic Disease Prevention and Health Promotion (NCCDPHP), Centers for Disease Control and Prevention (CDC).

Background and Brief Description

The Centers for Disease Control and Prevention (CDC) has established the Worksite Health ScoreCard (CDC ScoreCard), an online organizational assessment tool, to enable employers to assess the number of evidence-based health promotion interventions or strategies in their worksites to promote employee health and well-being.

The CDC ScoreCard will support small, mid-size, and large employers with three primary goals: (1) Assist employers in identifying gaps in their health promotion programs, and help them to prioritize high-impact strategies for health promotion at their worksites; (2) Improve the health and wellbeing of employees and their families through science-based workplace health interventions and promising practices; and (3) Support research and increase understanding of the organizational programs, policies, and practices that employers of various sizes and industry sectors have implemented to support healthy lifestyle behaviors.

CDC is requesting an extension to a previously approved data collection enabling existing employer users as well as new users to continue to have access to the CDC ScoreCard web-based organizational assessment tool (available at http://www.cdc.gov/healthscorecard).

CDC will provide outreach to, and register approximately 800 employers per year to use the online survey, which is open to employers of all sizes, industry sectors, and geographic locations across the country. CDC ScoreCard users will create a user account, complete the online assessment and receive an immediate feedback report that summarizes the current status of their worksite health program; identifies gaps in current programming; benchmarks individual employer results against other users of the system; and provides access to worksite health tools and resources to address employer gaps and priority program areas.

CDC will use the information collected to evaluate the effectiveness of the CDC ScoreCard in terms of (1) identifying success drivers for building and maintaining successful workplace health programs; (2) raising awareness and knowledge of science-based worksite health programs, policies and practices; and (3) developing additional worksite health tools and resources for employers. The information will also be used to evaluate the impact of the CDC Worksite Health Scorecard on employer adoption of worksite health programs, policies, and environmental supports.

CDC requests a three-year OMB approval for this project. Participation in the CDC ScoreCard is voluntary and there are no costs to respondents other than their time. The total estimated annualized burden hours are 1,067.

Estimated Annualized Burden Hours
Type of respondents | Form name | Number of respondents | Number of responses per respondent | Average burden per response (in hours)
Employers | CDC Worksite Health Scorecard Registration | 800 | 1 | 5/60
| CDC Worksite Health Scorecard | 800 | 1 | 75/60

Jeffrey M. Zirger,
Lead, Information Collection Review Office, Office of Scientific Integrity, Office of Science, Centers for Disease Control and Prevention.

[FR Doc. 2022-02402 Filed 2-3-22; 8:45 am]

BILLING CODE 4163-18-P